DEPARTMENT OF ENERGY

Federal Energy Regulatory Commission

[Docket No. CP16-9-000]

Algonquin Gas Transmission, LLC, Maritimes & Northeast Pipeline, LLC; Supplemental Notice of Intent To Prepare an Environmental Assessment for and Requesting Comments on the Proposed Atlantic Bridge Project

The staff of the Federal Energy Regulatory Commission (FERC or Commission) is preparing an environmental assessment (EA) that will discuss the environmental impacts of the Atlantic Bridge Project (Project), which would involve construction and operation of facilities by Algonquin Gas Transmission, LLC (Algonquin) and Maritimes & Northeast Pipeline, LLC (Maritimes), collectively referred to as the Applicants, in New York, Connecticut, and Massachusetts. The Commission will use this EA in its decision-making process to determine whether the Project is in the public convenience and necessity.

A Notice of Intent (NOI) for this Project was issued by the FERC on April 27, 2015. Since that time, some additional stakeholders not previously identified have been added to the environmental mailing list. In addition, the Applicants are proposing to use additional available horsepower at a compressor station in New York that was not previously included during the pre-filing process. As a result, this notice announces a supplemental scoping period to gather input from the public and agencies on the Project.

You can make a difference by providing us ¹ with your specific comments or concerns about the Project. Your comments should focus on the potential environmental effects, reasonable alternatives, and measures to avoid or lessen environmental impacts. Your input will help the Commission staff determine what issues need to be evaluated in the EA. To ensure that your comments are timely and properly recorded, please send your comments so that the Commission receives them in Washington, DC on or before December 21, 2015; however, this will not be the last public input opportunity for the Project. Please refer to the Review Process flow chart in Appendix 1.²

¹ “We,” “us,” and “our” refer to the environmental staff of the Commission's Office of Energy Projects.

² The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

If you sent comments on this Project to the Commission under Docket No. PF15-12-000, prior to the opening of the CP docket on October 22, 2015, you do not need to refile your comments under Docket No. CP16-9-000. We have received your comments and will use the information in the preparation of the EA.

If you are a landowner receiving this notice, a pipeline company representative may contact you about the acquisition of an easement to construct, operate, and maintain the planned facilities. The company would seek to negotiate a mutually acceptable agreement. However, if the Commission approves the Project, that approval conveys with it the right of eminent domain. Therefore, if easement negotiations fail to produce an agreement and the Project is approved, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically-asked questions, including the use of eminent domain and how to participate in the Commission's proceedings.

Public Participation

For your convenience, there are three methods you can use to submit your comments to the Commission. The commission will provide equal consideration to all comments received. In all instances, please reference the Project docket number (CP16-9) with your submission. The Commission encourages electronic filing of comments and has expert staff available to assist you at (202) 502-8258 or efiling@ferc.gov. Please carefully follow these instruction so that your comments are properly recorded.

(1) You can file your comments electronically using the eComment feature on the Commission's Web site (www.ferc.gov) under the link to Documents and Filings. This is an easy method for submitting brief, text-only comments on a project;

(2) You can file your comments electronically using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address: Kimberly D. Bose, Secretary, Federal Energy Regulatory Commission, 888 First Street NE., Room 1A, Washington, DC 20426.

Summary of the Proposed Project

The Applicants plan to construct, install, own, operate, and maintain the proposed Atlantic Bridge Project, which (as described more fully below) would involve expansion of its existing pipeline and compressor station facilities located in New York, Connecticut, and Massachusetts.

The proposed Atlantic Bridge Project, which was reduced in scope after the issuance of the first NOI, includes replacing about 6.3 miles of existing 26-inch-diameter mainline pipeline with 42-inch-diameter pipeline. About 4.0 miles of the pipeline replacement would be in Westchester County, New York (Stony Point Discharge L&R). The remaining 2.3 miles of pipeline replacement would be in Fairfield County, Connecticut (Southeast Discharge L&R).

In addition to the pipeline facilities, the Applicants plan to modify/uprate three existing compressor stations, construct one new compressor station, modify five existing metering and regulating (M&R) stations and one regulator station, and construct one new M&R station to replace an existing station. The modifications and uprating to the existing compressor stations would occur in Rockland County, New York and New Haven and Windham Counties, Connecticut, and would add a total additional 18,800 horsepower to the Applicants' pipeline system. The new compressor station would be located in Norfolk County, Massachusetts and would include a new 7,700 horsepower gas-fired compressor unit. The modifications to the five existing Algonquin M&R stations and one regulator station would occur in New York, Connecticut, Massachusetts, and Maine to accept the new gas flows associated with the Project. The new M&R station to replace an existing station would be constructed in New London County, Connecticut. The Applicants would also need to construct a number of pig³ launcher and receiver facilities and four new mainline valves.

³ A “pig” is a tool that the pipeline company inserts into and pushed through the pipeline for cleaning the pipeline, conducting internal inspections, or other purposes.

The proposed Atlantic Bridge Project has been modified since the issuance of the NOI to include uprating of existing horsepower at the Stony Point Compressor Station in Rockland County, New York. The proposed uprate would involve the removal of a software control and would not require any facility construction or ground disturbance.

The general locations of the Project facilities are shown in Appendix 2.

The EA Process

The National Environmental Policy Act (NEPA) requires the Commission to take into account the environmental impacts that could result from an action whenever it considers the issuance of a Certificate of Public Convenience and Necessity. NEPA also requires us to discover and address concerns the public may have about proposals. This discovery process is referred to as “scoping.” The main goal of the scoping process is to focus the analysis in the EA on the important environmental issues. By this notice, the Commission requests public comments on the scope of the issues to address in the EA. We will consider all filed comments during the preparation of the EA.

In the EA we will discuss impacts that could occur as a result of the construction and operation and maintenance of the planned Project under these general headings:

• Geology and soils;

• land use, including residential, commercial, and prime farmland uses;

• water resources, fisheries, and wetlands;

• cultural resources;

• vegetation and wildlife, including migratory birds;

• air quality and noise;

• endangered and threatened species;

• traffic and transportation;

• public safety; and

• cumulative impacts.

We will also evaluate reasonable alternatives to the proposed Project or portions of the Project, and make recommendations on how to lessen or avoid impacts on the various resource areas.

The EA will present our independent analysis of the issues. The EA will be available in the public record through eLibrary and will be published and distributed to the public for an allotted comment period. We will consider all comments on the EA before making our recommendations to the Commission. To ensure we have the opportunity to consider and address your comments, please carefully follow the instructions in the Public Participation section of this notice, beginning on page 2.

Consultations Under Section 106 of the National Historic Preservation Act

In accordance with the Advisory Council on Historic Preservation's implementing regulations for section 106 of the National Historic Preservation Act, we are using this notice to update the project status in our ongoing consultation with applicable State Historic Preservation Offices (SHPO), and to solicit their views and those of other government agencies, interested Indian tribes, and the public on the Project's potential effects on historic properties.⁴ We will define the Project-specific Area of Potential Effects (APE) in consultation with the SHPOs. On natural gas facility projects, the APE at a minimum encompasses all areas subject to ground disturbance (examples include construction right-of-way, contractor/pipe storage yards, compressor stations, and access roads). Our EA for this project will document our findings on the impacts on historic properties and summarize the status of consultations under section 106.

⁴ The Advisory Council on Historic Preservation regulations are at Title 36, Code of Federal Regulations, Part 800. Those regulations define historic properties as any prehistoric or historic district, site, building, structure, or object included in or eligible for inclusion in the National Register of Historic Places.

Currently Identified Environmental Issues

We have already identified several issues that we think deserve attention based on a preliminary review of the proposed facilities and the environmental information provided by the Applicants. This preliminary list of issues may change based on your comments and our analysis.

• Geology—Effects as a result of blasting to remove existing surface and bedrock during construction.

• Biological Resources—Effects on threatened and endangered species and sensitive habitats.

• Water Resources—Effects on waterbodies and wetlands.

• Land Use—Effects on residential and commercial areas as well as traffic and transportation corridors from construction.

• Cultural Resources—Effects on archaeological sites and historic resources.

• Air Quality and Noise—Effects on the local air quality and noise environment from construction and operation.

• Socioeconomics—Effects on Environmental Justice communities.

• Reliability and Safety—Hazards associated with natural gas pipelines and aboveground facilities.

• Alternatives—Evaluation of other locations for the new Weymouth Compressor Station.

Environmental Mailing List

The environmental mailing list includes: Federal, state, and local government representatives and agencies; elected officials; environmental and public interest groups; Native American Tribes; other interested parties; and local libraries and newspapers. We encourage government representatives who receive this notice to notify their constituents about this proposed Project and encourage them to comment on their areas of concern. This list also includes the affected landowners (as defined in the Commission's regulations) who are potential right-of-way grantors, whose property may be used temporarily for Project purposes, or who own homes within certain distances of aboveground facilities and proposed workspaces, and anyone who submits comments on the Project.

We will update the environmental mailing list as the analysis proceeds to ensure that we send the information related to this environmental review to individuals, organizations, and government entities interested in and/or potentially affected by the Project.

When we publish and distribute the EA, copies will be sent to the environmental mailing list for public review and comment. If you would prefer to receive a paper copy of the document instead of the CD version or would like to remove your name from the mailing list, please return the attached Information Request (Appendix 3).

Becoming an Intervenor

In addition to involvement in the EA scoping process, now that the Applicants have filed their application with the Commission, you may want to become an “intervenor,” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. As indicated in the Notice of Application for the Project issued on November 5, 2015, the deadline for motions to intervene in accordance with the requirements of the Commission's Rules of Practice and Procedures (18 CFR 385.214 or 385.211) and the Regulations under the Natural Gas Act (18 CFR 157.10) close on November 27, 2015. However, those individuals who were not previously noticed in this proceeding may request to intervene out of time, in accordance with 18 CFR 385.214(d).

Additional Information

Additional information about the Project is available from the Commission's Office of External Affairs, at (866) 208-FERC, or on the FERC Web site (www.ferc.gov) using the eLibrary link. Click on the eLibrary link, click on “General Search” and enter the docket number, excluding the last three digits in the Docket Number field (i.e., CP16-9). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/esubscribenow.htm.

Any public meetings or site visits that are conducted by our staff will be posted on the Commission's calendar located at www.ferc.gov/EventCalendar/EventsList.aspx along with other related information.

November 19, 2015.
Nathaniel J. Davis, Sr.,
Deputy Secretary.

[FR Doc. 2015-29965 Filed 11-24-15; 8:45 am]

BILLING CODE 6717-01-P